DEPARTMENT OF HEALTH AND HUMAN SERVICES

National Institutes of Health

National Heart, Lung, and Blood Institute; Notice of Meeting

Pursuant to section 10(a) of the Federal Advisory Committee Act, as amended, notice is hereby given of a meeting of the National Heart, Lung, and Blood Advisory Council.

The meeting will be open to the public as indicated below and held as a virtual meeting. Individuals who plan to view the virtual meeting and need special assistance or other reasonable accommodations to view the meeting, should notify the Contact Person listed below in advance of the meeting.

Name of Committee: National Heart, Lung, and Blood Advisory Council.

Date: September 15, 2020.

Open: 8:00 a.m. to 11:00 a.m.

Agenda: To discuss program policies and issues.

Place: National Institutes of Health, Rockledge I, 6705 Rockledge Drive, Room 206-Q, Bethesda, MD 20892, (Virtual Meeting).

Open: 1:30 p.m. to 4:00 p.m.

Agenda: To discuss program policies and issues.

Place: National Institutes of Health, Rockledge I, 6705 Rockledge Drive, Room 206-Q, Bethesda, MD 20892, (Virtual Meeting).

Virtual Access: The meeting will be videocast and can be accessed from the NIH Videocast. Please note, the link to the videocast meeting will be posted within a week of the meeting date on the NHLBI Council website: https://www.nhlbi.nih.gov/about/advisory-and-peer-review-committees/advisory-council.

Contact Person: Laura K. Moen, Ph.D., Director, Division of Extramural Research Activities, National Heart, Lung, and Blood Institute, National Institutes of Health, Rockledge I, 6705 Rockledge Drive, Bethesda, MD 20892, 301-435-0260, moenl@mail.nih.gov.

Any interested person may file written comments with the committee by forwarding the statement to the Contact Person listed on this notice. The statement should include the name, address, telephone number and when applicable, the business or professional affiliation of the interested person. Any member of the public may submit written comments no later than 15 days after the meeting.

Information is also available on the Institute's/Center's home page: www.nhlbi.nih.gov/meetings/nhlbac/index.htm, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: August 18, 2020.
Ronald J. Livingston, Jr.,
Program Analyst, Office of Federal Advisory Committee Policy.

[FR Doc. 2020-18440 Filed 8-21-20; 8:45 am]

BILLING CODE 4140-01-P